GENERAL SERVICES ADMINISTRATION

41 CFR Part 302-17

[FTR Amendment 2005-02; FTR Case 2005-302]

RIN 3090-AI05

Federal Travel Regulation; Relocation Income Tax (RIT) Allowance Tax Tables-2005 Update

AGENCY: Office of Governmentwide Policy, (GSA).

ACTION: Correcting amendments.

SUMMARY: The General Services Administration (GSA) published a document in the Federal Register on Tuesday, March 15, 2005 (70 FR 12598), that updated Federal, State, and Puerto Rico tax tables for calculating the relocation income tax (RIT) allowance. This document corrects that final rule.

DATES: Effective Date: January 1, 2005.

FOR FURTHER INFORMATION CONTACT Ms. Sallie Sherertz, Office of Governmentwide Policy, Travel Management Policy Division, at (202) 219-3455. Please cite the correction to FTR Amendment 2005-02, FTR case 2005-302.

SUPPLEMENTARY INFORMATION:

A. Background

A final rule was published in the Federal Register on March 15, 2005 (70 FR 12598). This document makes corrections to that final rule.

List of Subjects in 41 CFR Chapter 302, Part 302-17

Government employees, Income taxes, Relocation allowances and entitlements, Transfers, Travel and transportation expenses.

Accordingly, 41 CFR part 302-17 is corrected by making the following correcting amendments:

PART 302—17 RELOCATION INCOME TAX (RIT) ALLOWANCE

1. The authority citation for 41 CFR part 302-17 continues to read as follows:

Authority: 5 U.S.C. 5738; 20 U.S.C. 905(a); E.O. 11609, 36 FR 13747, 3 CFR, 1971-1975 Comp., p. 586.

Appendix A to Part 302-17 [Amended]

2. Amend Appendix A to part 302-17, in the table, in the first row, in the fourth column, by inserting “/qualifying widows and widowers” after “Married filing jointly”.

Appendix B to Part 302-17 [Amended]

3. Amend Appendix B to part 302-17, in the introductory paragraph, in the last sentence, by inserting “, at http://tax.cchgroup.com” after “CCH Inc.”.

Appendix C to Part 302-17 [Amended]

4. Amend Appendix C to part 302-17, in the introductory paragraph before the table, in the last sentence, by inserting “2000” after “1999”.

5. Amend Appendix C to part 302-17, in the table, in the first row, in the fourth column, by inserting “/qualifying widows and widowers” after “Married filing jointly”.

Dated: March 17, 2005.
Peggy DeProspero,
Director, Travel Management Policy Division.

[FR Doc. 05-5709 Filed 3-22-05; 8:45 am]

BILLING CODE 6820-14-S